DEPARTMENT OF THE INTERIOR

Bureau of Land Management

[LLWO220000.L10200000.PH0000.00000000]

Renewal of Approved Information Collection

AGENCY: Bureau of Land Management, Interior.

ACTION: 60-Day notice and request for comments.

SUMMARY: In compliance with the Paperwork Reduction Act, the Bureau of Land Management (BLM) plans to request approval to continue the collection of information from individuals, households, farms, and businesses interested in cooperating with the BLM in constructing or maintaining range improvement projects that enhance or improve livestock grazing management, improve watershed conditions, enhance wildlife habitat, or serve similar purposes. The BLM also invites public comments on this collection of information. The Office of Management and Budget (OMB) has assigned control number 1004-0019 to this information collection.

DATES: Please submit comments on the proposed information collection by June 10, 2013.

ADDRESSES: Comments may be submitted by mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0019” regardless of the form of your comments.

FOR FURTHER INFORMATION CONTACT: Kimberly Hackett, at 202-912-7216. Persons who use a telecommunication device for the deaf may call the Federal Information Relay Service at 1-800-877-8339, to leave a message for Ms. Hackett.

SUPPLEMENTARY INFORMATION: OMB regulations at 5 CFR part 1320, which implement provisions of the Paperwork Reduction Act, 44 U.S.C. 3501-3521, require that interested members of the public and affected agencies be given an opportunity to comment on information collection and recordkeeping activities (see 5 CFR 1320.8 (d) and 1320.12(a)). This notice identifies an information collection that the BLM plans to submit to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany our submission of the information collection requests to OMB.

Before including your address, phone number, email address, or other personal identifying information in your comment, you should be aware that your entire comment—including your personal identifying information—may be made publicly available at any time. While you can ask us in your comment to withhold your personal identifying information from public review, we cannot guarantee that we will be able to do so.

The following information is provided for the information collection:

Title: Grazing Management: Range Improvement Agreements and Permits (43 CFR Subpart 4120).

OMB Control Number: 1004-0019.

Summary: This request pertains to range improvements on public lands managed by the BLM. Range improvements enhance or improve livestock grazing management, improve watershed conditions, enhance wildlife habitat, or serve similar purposes. At times, the BLM may require holders of grazing permits or grazing leases to install range improvements to meet the terms and conditions of their permits or leases. Operators may also come to the BLM with proposals for range improvements. Often the BLM, operators, and other interested parties work together and jointly contribute to construction of range improvements in order to facilitate improved grazing management or enhance other multiple uses. Cooperators may include lenders which provide the funds that operators contribute for improvements.

Frequency of Collection: On occasion.

Forms: Form 4120-6 (Cooperative Range Improvement Agreement); and Form 4120-7 (Range Improvement Permit).

Description of Respondents: Primarily holders of BLM grazing permits or grazing leases.

Estimated Annual Responses: 1,310.

Estimated Annual Burden Hours: 1,940.

Estimated Annual Non-Hour Costs: None.

The estimated annual burdens for respondents are itemized in the following table:

A. | B. | C. | D.
Type of response | Number of responses | Hours per response | Total hours (column B × column C)
43 CFR part 4100, subpart 4120, Cooperative Range Improvement Agreement, Form 4120-6 and related non-form information | 600 | 2 | 1,200
43 CFR part 4100, subpart 4120, Range Improvement Permit, Form 4120-7 and related non-form information | 30 | 2 | 60
43 CFR part 4100, subpart 4120, Affected Public/Individuals or Households | 50 | 1 | 50
43 CFR part 4100, subpart 4120, Affected Public/State, Local, and Tribal Governments | 630 | 1 | 630
Total | 1,310 |  | 1,940

Jean Sonneman,
Information Collection Clearance Officer, Bureau of Land Management.

[FR Doc. 2013-08215 Filed 4-8-13; 8:45 am]

BILLING CODE 4310-84-P